DEPARTMENT OF HEALTH AND HUMAN SERVICES

Centers for Disease Control and Prevention

Disease, Disability, and Injury Prevention and Control Special Emphasis Panel: Enhanced Surveillance for New Vaccine Preventable Disease, Funding Opportunity

Announcement (FOA) IP07-001, Effectiveness of an Intervention to Promote Comprehensive Vaccination Programs in the Obstetrician-Gynecologist Setting, FOA IP07-008, and Impact of New Adolescent Vaccines on the Delivery of Recommended Clinical Preventive Services, FOA IP07-009

In accordance with section 10(a)(2) of the Federal Advisory

Committee Act (Pub. L. 92-463), the Centers for Disease Control and Prevention (CDC) announces a meeting of the aforementioned Special Emphasis Panel.

Time and Date: 12 p.m.-4 p.m., June 15, 2007 (Closed).

Place: Teleconference.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grant applications in response to FOA IP07-001, “Enhanced Surveillance for New Vaccine Preventable Disease”, FOA IP07-008 “Effectiveness of an Intervention to Promote Comprehensive Vaccination Programs in the Obstetrician-Gynecologist Setting”, and FOA IP07-009 “Impact of New Adolescent Vaccines on the Delivery of Recommended Clinical Preventive Services”.

Contact Person for More Information: Trudy Messmer, PhD, Designated Federal Official, 1600 Clifton Road, Mailstop C-19, Atlanta, GA 30333, telephone (404) 639-2176.

The Director, Management Analysis and Services Office, has been delegated the authority to sign Federal Register notices pertaining to announcements of meetings and other committee management activities, for both CDC and the Agency for Toxic Substances and Disease Registry.

Dated: May 22, 2007.
Elaine L. Baker,
Acting Director, Management Analysis and Services Office, Centers for Disease Control and Prevention.

[FR Doc. E7-10246 Filed 5-25-07; 8:45 am]

BILLING CODE 4163-18-P